DEPARTMENT OF THE INTERIOR

Bureau of Land Management

[NV-056-5853-ES; N-84545; 8-08807; TAS:14X523]

Notice of Realty Action: Lease/Conveyance for Recreation and Public Purposes of Public Lands in Clark County, NV

AGENCY: Bureau of Land Management, Interior.

ACTION: Notice.

SUMMARY: Recreation and Public Purposes (R&PP) Act request for lease and subsequent conveyance of approximately 5 acres of public land in the City of Las Vegas, Clark County, Nevada. The City of Las Vegas proposes to use the land for a public park.

DATES: Interested parties may submit written comments regarding the proposed lease/conveyance of the lands until September 8, 2008.

ADDRESSES: Mail written comments to the BLM Field Manager, Las Vegas Field Office, 4701 N. Torrey Pines Drive, Las Vegas, NV 89130-2301.

FOR FURTHER INFORMATION CONTACT: Kimber Liebhauser, (702) 515-5088.

SUPPLEMENTARY INFORMATION: The following described land in Clark County, Nevada has been examined and found suitable for lease and subsequent conveyance under the provisions of the R&PP Act, as amended (43 U.S.C. 869 et seq.). The parcel of land is located on the southwest corner of Grand Teton Drive and Fort Apache Road, Las Vegas, Nevada, and is legally described as:

Mount Diablo Meridian, Nevada

T. 19 S., R. 60 E.,

Sec. 18, E½NE¼NE¼NE¼.

The area described contains 5 acres, more or less.

In accordance with the R&PP Act, the City of Las Vegas has filed an R&PP application to develop the above described land as a public park with related facilities to meet the park space needs of this rapidly growing area. Related facilities include picnic shelters, walking paths, landscaping, restrooms, large open turf play areas, parking lot, off-site improvements including street grading and paving, street signage and signal construction. Additional detailed information pertaining to this application, plan of development, and site plan is in case file N-84545, which is located in the Bureau of Land Management (BLM), Las Vegas Field Office at the above address.

Cities are a common applicant under the public purposes provision of the R&PP Act. The City of Las Vegas is a political subdivision of the State of Nevada and is therefore a qualified applicant under the R&PP Act. The land is not required for any Federal purpose. The lease/conveyance is consistent with the BLM Las Vegas Resource Management Plan, dated October 5, 1998, and would be in the public interest. The lease/conveyance, when issued, will be subject to the provisions of the R&PP Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe.

The lease/conveyance will be subject to:

1. Valid existing rights; and

2. A right-of-way for an underground distribution line granted to Nevada Power Company, its successors and assigns, by right-of-way N-77846, pursuant to the Act of October 21, 1976, 090 Stat. 2776, 43 U.S.C. 1761.

Upon publication of this notice in the Federal Register, the land described above will be segregated from all other forms of appropriation under the public land laws, including the general mining laws, except for lease/conveyance under the R&PP Act, leasing under the mineral leasing laws and disposals under the mineral material disposal laws.

Interested parties may submit written comments regarding the specific use proposed in the application and plan of development, whether BLM followed proper administrative procedures in reaching the decision to lease/convey under the R&PP Act, or any other factor not directly related to the suitability of the land for R&PP use. Any adverse comments will be reviewed by the BLM Nevada State Director, who may sustain, vacate, or modify this realty action. In the absence of any adverse comments, this realty action will become the final determination of the Department of the Interior. Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Las Vegas Field Office, will be considered properly filed. Electronic mail, facsimile, or telephone comments will not be considered properly filed.

In the absence of any adverse comments, the decision will become effective on September 22, 2008. The lands will not be available for lease/conveyance until after the decision becomes effective.

(Authority: 43 CFR 2741.5)

Dated: July 8, 2008.
Beth Ransel,
Acting Assistant Field Manager, Division of Lands, Las Vegas, Nevada.

[FR Doc. E8-16997 Filed 7-23-08; 8:45 am]

BILLING CODE 4310-HC-P